DEPARTMENT OF AGRICULTURE

Agricultural Marketing Service

[Doc. No. DA-10-03; AMS-DA-09-0053]

Milk for Manufacturing Purposes and Its Production and Processing; Requirements Recommended for Adoption by State Regulatory Agencies

AGENCY: Agricultural Marketing Service, USDA.

ACTION: Notice; request for comments.

SUMMARY: This document proposes to amend the recommended manufacturing milk requirements (Recommended Requirements) by raising the maximum allowable somatic cell count in producer herd goat milk from 1,000,000 cells per milliliter to 1,500,000 cells per milliliter. This proposal was initiated at the request of the National Association of Dairy Regulatory Officials (NADRO) and was developed in cooperation with NADRO, dairy trade associations, and producer groups. This will ensure that goat milk can continue to be shipped and recognizes that goats have a need for different regulatory limits for somatic cells than cows.

DATES: Submit written or electronic comments on or before December 6, 2010.

ADDRESSES: You may use any of the following methods to file comments on this action:

By Mail: Reginald Pasteur, Marketing Specialist, Standardization Branch, Dairy Programs, STOP 0230 (Room 2746-South Building), Agricultural Marketing Service, U.S. Department of Agriculture (USDA), 1400 Independence Avenue, SW., Washington, DC 20250-0230.

By Fax: (202) 720-2643.

By e-mail: Via the electronic process available at the Federal eRulemaking portal at http://www.regulations.gov.

Comments should reference the docket number and the date and page number of this issue of the Federal Register. Any comments received may be inspected at the above address during regular business hours (8 a.m.-4:30 p.m.) or may be accessed via the Internet at http://www.regulations.gov.

The current Recommended Requirements are available either from the above mailing address or by accessing the following internet address: http://www.ams.usda.gov/dairy/manufmlk.pdf. The proposed changes to the Recommended Requirements are also available from the above mailing address or by accessing the following internet address: http://www.ams.usda.gov/dairy/dockets.htm.

FOR FURTHER INFORMATION CONTACT: Reginald Pasteur, Marketing Specialist, Standardization Branch, Dairy Programs, AMS, USDA, telephone (202) 720-7473 or e-mail Reginald.pasteur@ams.usda.gov.

SUPPLEMENTARY INFORMATION: Under the authority of the Agricultural Marketing Act of 1946, as amended (7 U.S.C. 1621-1627), the U.S. Department of Agriculture maintains a set of model regulations relating to quality and sanitation requirements for the production and processing of manufacturing grade milk. These Recommended Requirements are developed by AMS and recommended for adoption and enforcement by the various States that regulate manufacturing grade milk. The purpose of the model requirements is to promote uniformity in State dairy laws and regulations relating to manufacturing grade milk.

In consultation with representatives from NADRO, State regulatory agencies, Food and Drug Administration (FDA), and dairy industry trade associations, USDA prepared the Recommended Requirements to promote uniformity in State dairy laws and regulations for manufacturing grade milk. To accommodate changes that occur in the dairy industry, NADRO and various State officials request USDA to update the Recommended Requirements periodically.

During its July 2009 annual meeting, NADRO passed a resolution requesting USDA to raise the maximum allowable somatic cell count for producer herd goat milk from 1,000,000 cells per milliliter to 1,500,000 cells per milliliter to provide consistency with the current requirements in place for Grade A producer herd goat milk. Due to inherent difference between cows and goats, goat milk with a somatic cell of 1.5 million cells per milliliter can be produced from a healthy, non-mastitic udder and therefore, is quality milk. The need for a separate standard for goat milk was recognized by the National Conference on Interstate Milk Shipments (NCIMS) and was raised to 1.5 million cells per milliliter at their 2009 conference. This proposed change will align the Recommended Requirements with the Grade A requirements for goat milk. AMS reviewed this resolution and developed a draft proposal that identified the changes associated with this request. This draft was provided to State regulatory officials and dairy trade association representatives for informal discussion prior to publication in the Federal Register. AMS is now soliciting comments on the proposed notice to the Recommended Requirements.

The requirements of Executive Order 13132, Federalism, were considered in developing this notice, and it has been determined that this action does not have substantial effects on the States (the relationship between the National Government and the States or on the distribution of power and responsibilities among the various levels of government). The adoption of the Recommended Requirements by State regulatory agencies is voluntary. States maintain the responsibility to establish dairy regulations and continue to have the option to establish regulations that are different from the Recommended Requirements. A State may choose to have requirements less restrictive or more stringent than the Recommended Requirements. Their decision to have different requirements would not affect the ability of milk producers to market milk or of processing plants to produce dairy products in their State. AMS is publishing this notice with a 60-day comment period to provide a sufficient time for interested persons to comment on the changes.

Based on information provided above, this notice seeks public comment on revising the somatic cell count for goat milk from 1,000,000 cells per milliliter to 1,500,000 cells per milliliter in sections C7 (9)(d) and C11 (e), (e)(2), and (f) of the Recommended Requirements.

Dated: September 30, 2010.
David R. Shipman,
Acting Administrator, Agricultural Marketing Service.

[FR Doc. 2010-24985 Filed 10-4-10; 8:45 am]

BILLING CODE 3410-02-P